NATIONAL SCIENCE FOUNDATION

Sunshine Act Meeting

The National Science Board's Awards and Facilities Committee (A&F) hereby gives notice of the scheduling of a meeting for the transaction of National Science Board business pursuant to the National Science Foundation Act and the Government in the Sunshine Act.

TIME AND DATE: Tuesday, November 28, 2023, from 1:00:-5:00 p.m. Eastern. The open portion is from 1:00-1:30 p.m. The closed portion is from 1:30-5:00 p.m.

PLACE: This meeting will be held virtually and in person at NSF headquarters, 2145 Eisenhower Ave., Alexandria, VA 22314, and by videoconference.

STATUS: Portions open and closed as described below.

MATTERS TO BE CONSIDERED: The agenda of the open portion of the meeting is: Committee chair's Opening Remarks; Next Generation Very Large Array Briefing.

The agenda of the closed portion of the meeting is: Committee Chair's Opening Remarks regarding the agenda; Annual Report of the Chief Officer for Research Facilities; Antarctic Research Season Briefing; Discussion and vote on Leadership-Class Computing Facility Construction Award; Discussion of U.S. Extremely Large Telescope Program.

CONTACT PERSON FOR MORE INFORMATION: Point of contact for this meeting is: Michelle McCrackin, mmccrack@nsf.gov, (703) 292-7000. Members of the public can observe the public portion of this meeting through a YouTube livestream. The link is: https://www.youtube.com/watch?v=dU9-rjFpghM. Meeting information and updates may be found at www.nsf.gov/nsb.

Christopher Blair,
Executive Assistant to the National Science Board Office.

[FR Doc. 2023-26207 Filed 11-22-23; 4:15 pm]

BILLING CODE 7555-01-P